DEPARTMENT OF THE INTERIOR

Bureau of Land Management

[14XL LLIDI01000.L12320000.AL0000. LVRDID130000]

Proposed Information Collection, OMB Control Number 1004-XXXX

AGENCY: Bureau of Land Management, Interior.

ACTION: 30-Day notice and request for comments.

SUMMARY: The Bureau of Land Management (BLM) has submitted an information collection request to the Office of Management and Budget (OMB) to approve the information collection (IC) described below. In compliance with the Paperwork Reduction Act of 1995, we invite the general public and other Federal agencies to submit comments on this IC to OMB.

DATES: The OMB is required to respond to this information collection request within 60 days but may respond after 30 days. For maximum consideration, written comments should be received on or before July 13, 2015.

ADDRESSES: Please submit comments directly to the Desk Officer for the Department of the Interior (OMB #1004-XXXX), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-XXXX” regardless of the form of your comments.

FOR FURTHER INFORMATION CONTACT: Shannon Bassista, Upper Snake Field Office, at (208) 524-7552. Persons who use a telecommunication device for the deaf may call the Federal Information Relay Service at 1-800-877-8339, to leave a message for Ms. Bassista. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on January 21, 2015 (80 FR 2967). The public comment period expired on March 23, 2015. No public comments were submitted in response to that notice. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-XXXX in your correspondence. Before including your address, phone number, email address, or other personal identifying information in your comment, you should be aware that your entire comment—including your personal identifying information—may be made publicly available at any time. While you can ask us in your comment to withhold your personal identifying information from public review, we cannot guarantee that we will be able to do so.

The following information pertains to this request:

OMB Control Number: 1004-XXXX.

Title: Visitor Use Survey for St. Anthony Sand Dunes.

Abstract: The BLM is proposing to sponsor a visitor use survey for the St. Anthony Sand Dunes in the Upper Snake Field Office, Idaho, which includes lands designated as a Special Recreation Management Area (SRMA), lands designated as a Wilderness Study Area, and lands designated as an Area of Critical Environmental Concern. This collection of information will enable the BLM to develop a plan for the St. Anthony Sand Dunes on subjects such as existing and proposed management actions, issuance of Special Recreation Permits, conflicts between visitors, and travel management issues. The proposed survey will be distributed as a mail-back questionnaire and will be available online through a University of Idaho Web site. The collection of information will take place during the summer season when visitation rates are highest. Data will be analyzed and a final report will be developed for the area.

Frequency: Once.

Description of Respondents: Visitors and recreationists.

Respondents' Obligation: Voluntary.

Estimated Reporting and Recordkeeping “Hour” Burden: 845 responses and 211 hours.

The estimated burdens are itemized in the following table:

A. Activity | B. Estimated number of responses | C. Completion time per response (minutes) | D. Total hours (column B × column C)
Sampling Frame 1: On-site visitors: on-site, mail or on-line questionnaires | 420 | 15 | 105
Sampling Frame 2: mail or online questionnaire to vested interests | 425 | 15 | 106
Totals | 845 |  | 211

Jean Sonneman,
Information Collection Clearance Officer, Bureau of Land Management.

[FR Doc. 2015-14484 Filed 6-11-15; 8:45 am]

BILLING CODE 4310-84-P